ENVIRONMENTAL PROTECTION AGENCY

[EPA-HQ-OPP-2008-0129; FRL-8806-7]

Sulfometuron Methyl Amendment to Reregistration Eligibility Decision

AGENCY: Environmental Protection Agency (EPA).

ACTION: Notice.

SUMMARY: This notice announces EPA’s decision to modify certain risk mitigation measures that were specified in the 2008 Reregistration Eligibility Decision (RED) for the herbicide sulfometuron methyl. EPA conducted this reassessment of the Sulfometuron Methyl RED in response to public comments and risk reduction proposals received during the comment period following the Sulfometuron Methyl RED. Based on the new information received, and in a continuing effort to mitigate risk, the Agency has made certain modifications to the Sulfometuron Methyl RED.

FOR FURTHER INFORMATION CONTACT: Rusty Wasem, Pesticide Re-evaluation Division (7508P), Office of Pesticide Programs, Environmental Protection Agency, 1200 Pennsylvania Ave., NW., Washington, DC 20460-0001; telephone number: (703) 305-6979; fax number: (703) 308-7070; e-mail address: wasem.russell@epa.gov.

SUPPLEMENTARY INFORMATION:

I. General Information

A. Does this Action Apply to Me?

This action is directed to the public in general, and may be of interest to a wide range of stakeholders including environmental, human health, farm worker and agricultural advocates; the chemical industry; pesticide users, and members of the public interested in the sale, distribution, or use of pesticides. Since other parties may also be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2008-0129. Publicly available docket materials are available either in the electronic docket at http://www.regulations.gov (EPA-HQ-OPP-2008-0129), or in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What Action is the Agency Taking?

Section 4 of the Federal Insecticide, Fungicide, and Rodenticide Act (FIFRA) directs EPA to reevaluate existing pesticides to ensure that they meet current scientific and regulatory standards. In 2008, EPA issued a RED for sulfometuron methyl under section 4(g)(2)(A) of FIFRA. In response to a notice of availability published in the Federal Register of November 12, 2008 (73 FR 219) (FRL-8388-5), the Agency received comments and mitigation proposals submitted by the technical registrant, user groups, and individuals. The Agency’s response to comments is available for viewing in the docket. The amended Sulfometuron Methyl RED reflects changes resulting from Agency consideration of these comments and mitigation proposals. The RED amendment for sulfometuron methyl concludes EPA’s reregistration eligibility decision making process for this herbicide.

Stakeholder comments, mitigation proposals, and other information received by the Agency following the publication of the Sulfometuron Methyl RED allowed EPA to further refine the ecological risk assessment for non-target plant species and to revise the buffer zone requirements for sulfometuron methyl. Based on the comments and proposals, EPA also refined the occupational handler exposure risk estimates and revised the personal protective equipment (PPE) requirements for sulfometuron methyl. The label table incorporated into the Sulfometuron Methyl RED amendment includes modifications which specify label language for required application parameters, buffer zones, and PPE requirements.

B. What is the Agency's Authority for Taking this Action?

Section 4(g)(2) of FIFRA, as amended, directs that, after submission of all data concerning a pesticide active ingredient, “the Administrator shall determine whether pesticides containing the active ingredient are eligible for reregistration,” before calling in product specific data on individual end-use products and either reregistering products or taking other “appropriate regulatory action.”

List of Subjects

Environmental protection, Pesticides and pests, Sulfometuron methyl.

Dated: January 12, 2010.
Richard P. Keigwin, Jr.,
Director, Pesticide Re-evaluation Division, Office of Pesticide Programs.

[FR Doc. 2010-834 Filed 1-19-10; 8:45 am]

BILLING CODE 6560-50-S